COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before September 8, 2016.

ADDRESSES: Comments regarding the burden estimated or any other aspect of the information collection, including suggestions for reducing the burden, may be submitted directly to the Office of Information and Regulatory Affairs (OIRA) in OMB, within 30 days of the notice's publication, by email at OIRAsubmissions@omb.eop.gov. Please identify the comments by OMB Control No. 3038-0017. Please provide the Commodity Futures Trading Commission (“CFTC” or “Commission”) with a copy of all submitted comments at the address listed below. Please refer to OMB Reference No. 3038-0017, found on http://reginfo.gov. Comments may also be mailed to the Office of Information and Regulatory Affairs, Office of Management and Budget, Attention: Desk Officer for the Commodity Futures Trading Commission, 725 17th Street NW., Washington, DC 20503, and to: Gary Martinaitis, Associate Director, Division of Market Oversight, Commodity Futures Trading Commission, Three Lafayette Centre, 1155 21st Street NW., Washington, DC 20581; or through the CFTC Web site at http://comments.cftc.gov. Follow the instructions for submitting comments through the Web site.

Comments may also be mailed to: Christopher J. Kirkpatrick, Secretary of the Commission, Commodity Futures Trading Commission, Three Lafayette Centre, 1155 21st Street NW., Washington, DC 20581 or by Hand Deliver/Courier at the same address.

A copy of the supporting statements for the collection of information discussed above may be obtained by visiting RegInfo.gov. All comments must be submitted in English, or if not, accompanied by an English translation. Comments will be posted as received to www.cftc.gov.

FOR FURTHER INFORMATION CONTACT: Gary Martinaitis, Associate Director, Division of Market Oversight, Commodity Futures Trading Commission, (202) 418-5209; email: gmartinaitis@cftc.gov, and refer to OMB Control No. 3038-0017. A copy may also be obtained from this contact.

SUPPLEMENTARY INFORMATION: Title: Notice of Intent to Renew Collection, Market Surveys (OMB Control No. 3038-0017). This is a request for extension of a currently approved information collection.

Abstract: Under Commission Rule 21.02, upon call by the Commission, information must be furnished related to futures or options positions held or introduced by futures commission merchants, members of contract markets, introducing brokers, and foreign brokers and, for options positions, by each reporting market. This rule is designed to assist the Commission in prevention of market manipulation and is promulgated pursuant to the Commission's rulemaking authority contained in section 8a of the Commodity Exchange Act, 7 U.S.C. 12a (2010).

Burden Statement: The respondent burden for this collection is estimated to be as follows:

Estimated Annual Reporting Burden
17 CFR § | Annual number of respondents | Frequency of response | Total annual responses | Hours per response | Total hours
21.02 | 400 | Annually | 400 | 1.75 | 700

The total annual cost burden per respondent is estimated to be $38,500. The Commission based its calculation on a blended hourly wage rate of $55 for a Programmer and Compliance Manager.¹

¹ In arriving at a wage rate for the hourly costs imposed, Commission staff used the Management & Professional Earnings in the Securities Industry Report, published in 2013 by the Securities Industry and Financial Markets Associations (Report). The wage rate used the median salary of a Programmer and Compliance Manager as published in the 2013 Report and divided that figure by 2000 annual working hours to arrive at the hourly rate of $55.

Authority: 44 U.S.C. 3501 et seq.

Dated: August 4, 2016.
Christopher J. Kirkpatrick,
Secretary of the Commission.

[FR Doc. 2016-18859 Filed 8-8-16; 8:45 am]

BILLING CODE 6351-01-P